DEPARTMENT OF LABOR

Office of Job Corps; Advisory Committee on Job Corps; Notice of Renewal of the Advisory Committee on Job Corps Charter

AGENCY: Office of Job Crops, Department of Labor.

ACTION: Renewal of the Advisory Committee on Job Corps charter.

SUMMARY: Notice is hereby given that after consultation with the General Services Administration, it has been determined that the renewal of an advisory committee on Job Corps is necessary and in the public interest. Accordingly, the U.S. Department of Labor, Office of Job Corps has renewed the Advisory Committee on Job Corps charter with several minor revisions. The revisions are not intended to change the purpose or the Committee's original intent.

SUPPLEMENTARY INFORMATION:

Background

The Current Advisory Committee on Job Corps charter expires September 7, 2008. These proposed revisions were not intended to change the purpose or the Committee's original intent. The revisions were intended to update and align with Job Corps vision for the 21st century.

The revisions are found in the following two sections of the Charter: A Description of the Duties for Which the Committee is Responsible and Termination Date.

Summary of Revisions

• A description of the duties for which the Committee is responsible were slightly modified to reflect an addendum report.

• The termination date was extended to provide sufficient time for Committee activities and evaluations necessary to obtain results needed in advising and making recommendations to the Secretary.

The Advisory Committee on Job Corps provides advice and recommendations to the Secretary of Labor pertaining to the review, development, and implementation of policies, legislation, and regulations affecting Job Corps. It serves to broadly evaluate Job Corps program characteristics, including its purpose, goals, and effectiveness, efficiency, and performance measures in order to address the critical issues facing the provision of job training and education to the youth population that it serves, particularly as related to creating a pipeline of young workers for a demand-driven workforce.

The Committee is composed of 16 individuals appointed by the Secretary. The membership of the Committee shall include equal representation of employers, education community, labor organizations, and the public/private sectors. The Secretary shall appoint one of the members as Chairperson to the Committee. A representative of the U.S. Department of Education, U.S. Department of Health and Human Services and the U.S. Department of Justice shall be invited to serve as non-voting members to the Committee ex-officio. The Deputy Secretaries of Labor, Agriculture, and Interior shall be non-voting members to the Committee ex-officio. The National Director, Office of Job Corps, Office of the Secretary (OSEC), shall be the designated Federal official to the Committee.

Terms of members shall be 2 years, as designated by the Secretary, and all Committee members shall serve at the pleasure of the Secretary. Appointments to vacancies occurring during the terms of such appointments shall be for the unexpired portions of the terms.

FOR FURTHER INFORMATION CONTACT: Crystal Woodard, Office of Job Corps, 202-693-3000 (this is not a toll-free number).

Signed at Washington, DC, this 3rd day of September 2008.
Esther R. Johnson,
Administrator, Office of Job Corps.

[FR Doc. E8-20870 Filed 9-8-08; 8:45 am]

BILLING CODE 4510-23-P